DEPARTMENT OF COMMERCE

National Oceanic and Atmospheric Administration

50 CFR Part 622

[Docket No. 240715-0194]

RIN 0648-BM82

Fisheries of the Caribbean, Gulf of Mexico, and South Atlantic; Reef Fish Fishery of the Gulf of Mexico; Greater Amberjack and Red Snapper Management Measures

AGENCY: National Marine Fisheries Service (NMFS), National Oceanic and Atmospheric Administration (NOAA), Commerce.

ACTION: Final rule.

SUMMARY: NMFS issues regulations to implement management measures described in a framework action under the Fishery Management Plan for the Reef Fish Resources of the Gulf of Mexico (FMP), as prepared by the Gulf of Mexico Fishery Management Council (Council). This final rule modifies the Gulf of Mexico (Gulf) greater amberjack commercial trip limit and the recreational fixed closed season. Additionally, this final rule clarifies the Gulf red snapper charter vessel/headboat (for-hire) component quota and annual catch target (ACT) regulations. The purposes of this final rule are to extend the commercial and recreational fishing seasons for Gulf greater amberjack while continuing to prevent overfishing and rebuild the stock; and clarify that a person on a vessel issued a Gulf for-hire permit at any time during the fishing year can only harvest red snapper if the vessel is operating as a for-hire vessel.

DATES: This final rule is effective August 21, 2024, except for amendatory instruction 2 (revising § 622.34(c)), which is effective August 1, 2024.

ADDRESSES: Electronic copies of the framework action, which includes an environmental assessment, a fishery impact statement, an Initial Regulatory Flexibility analysis (IRFA), and a regulatory impact review, may be obtained from the Southeast Regional Office website at https://www.fisheries.noaa.gov/action/framework-action-modify-greater-amberjack-recreational-fixed-closed-season-and-commercial.

FOR FURTHER INFORMATION CONTACT: Dan Luers, telephone: 727-824-5305, or email: daniel.luers@noaa.gov.

SUPPLEMENTARY INFORMATION: The Gulf reef fish fishery, which includes greater amberjack, is managed under the FMP. The FMP was prepared by the Council, approved by the Secretary of Commerce, and is implemented by NMFS through regulations at 50 CFR part 622 under the authority of the Magnuson-Stevens Fishery Conservation and Management Act (Magnuson-Stevens Act).

Background

The Magnuson-Stevens Act requires NMFS and the regional fishery management councils to prevent overfishing and achieve, on a continuing basis, the optimum yield (OY) from federally managed fish stocks. These mandates are intended to ensure fishery resources are managed for the greatest overall benefit to the Nation, particularly with respect to providing food production and recreational opportunities, and to protect marine ecosystems.

On May 15, 2024, NMFS published a proposed rule for the framework action and requested public comment (89 FR 42413).

The greater amberjack stock in the Gulf has been overfished since 2001. To help rebuild the stock, NMFS has implemented several modifications to the rebuilding plan, including changes to the commercial and recreational catch levels, and changes to management measures intended to constrain harvest and extend the commercial and recreational seasons. NMFS recently implemented Amendment 54 to the FMP, which modified the Gulf greater amberjack rebuilding time period and substantially reduced the sector-specific annual catch limits (ACLs) and ACTs (88 FR 39193, June 15, 2023). Implementation of that final rule and Amendment 54 is expected to result in the stock rebuilding by 2027.

In the Gulf, greater amberjack is not a common target species for the reef fish commercial sector, with the majority of trips landing less than 500 lb (227 kg), gutted weight (520 lb (236 kg), round weight) of the species. As described at 50 CFR 622.41(a)(1), when commercial landings for greater amberjack reach or are projected to reach the commercial ACT, which is codified as the commercial quota, NMFS closes the commercial sector for the remainder of the fishing year. Any overage of the commercial ACL results in both a reduction of the commercial ACT and the commercial ACL in the following fishing year by the amount of the commercial ACL overage.

In 2020, NMFS implemented a framework action that set the current Gulf greater amberjack commercial trip limit to 1,000 lb (454 kg), gutted weight (1,040 lb (472 kg), round weight) (85 FR 20611, April 14, 2020). That framework action and final rule also included a reduction in the trip limit to 250 lb (113 kg), gutted weight (260 lb (118 kg), round weight) when 75 percent of the commercial quota was reached. As described in the current framework action, under the current trip limit, the trip limit reduction was projected to occur in February with a season closure occurring in June.

In the current framework action, the Council is recommending that NMFS further reduce the commercial trip limit due to the substantial catch limit reductions implemented by Amendment 54 to lengthen the commercial fishing season. The framework action would reduce the commercial trip limit for Gulf greater amberjack to seven fish, which is approximately equal to 210 lb (95 kg), gutted weight (218 lb (99 kg), round weight). This reduction in the trip limit is expected to extend the commercial season until September unless an overage of the commercial ACL occurs in the prior fishing year, which then would require a reduction in the commercial ACL and ACT and result in a reduction in the season length. NMFS notes that in the 2023 fishing year, the commercial ACL was exceeded by 35,280 lb (16,003 kg), round weight, resulting in a reduction of the commercial ACL and ACT for the 2024 fishing year (see 88 FR 80995, November 21, 2023). For the 2024 fishing year, NMFS projected that the adjusted commercial ACT would be met on June 30, 2024, and so NMFS prohibited the commercial harvest and possession of Gulf greater amberjack on June 30, 2024 (89 FR 50529, June 14, 2024).

As described in the framework action, this reduction of the trip limit to seven fish is expected to eliminate the remaining direct commercial harvest trips for greater amberjack. The Council recognized that the greater amberjack stock is overfished and has not rebuilt as expected. Thus, the Council determined that a more cautious approach was warranted and chose to recommend reducing the commercial trip limit.

At its October 2023 meeting, the Council discussed the impact of the required reduction to the 2024 commercial catch limits as a result of landings exceeding the ACL in 2023. The Council expressed concern about constraining landings to the reduced catch limits under the current trip limit when the commercial season opened in January 2024, which could have potentially resulted in another commercial overage in 2024 and further reduced the catch limits for 2025. Since the reduced commercial trip limit in this final rule would not be effective until later in 2024, the Council requested that NMFS implement an emergency action to reduce the commercial trip limit to seven fish. NMFS and the Council expected this lower trip limit to benefit the greater amberjack stock by increasing the duration of the commercial open season, which is expected to result in fewer regulatory discards (i.e., discards required after the quota has been reached). On December 18, 2023, a final temporary rule for emergency action for Gulf greater amberjack was published in the Federal Register and was effective through June 15, 2024 (88 FR 87365).

The Council decided to specify the commercial trip limit in numbers of fish instead of pounds of fish based in part on recommendations from its Reef Fish Advisory Panel (AP) and the Law Enforcement Technical Committee on their preferred way to specify the trip limit. A trip limit in numbers of fish is more enforceable and reduces the chance of commercial fishermen exceeding the trip limit.

The Council decided that the reduced trip limit, which would extend the commercial fishing season as long as practicable, was a more desirable solution. The new commercial trip limit is expected to allow for as many fishing days as practicable while reducing the chance of exceeding the reduced lower catch limits implemented under the final rule for Amendment 54, and addresses needs of the rebuilding plan.

In the framework action, the Council also decided to recommend modifying the Gulf greater amberjack recreational fixed closed season in order to extend the recreational fishing season and to protect greater amberjack spawning. As described in the framework action, under the current recreational season structure which opens annually on August 1, projections indicate that the season would only last approximately 3 weeks. For the recreational sector, when recreational landings for greater amberjack reach or are projected to reach the recreational ACT, NMFS closes the sector for the remainder of the fishing year and any overage of the recreational ACL is reduced from the following fishing year's recreational ACT and ACL (50 CFR 622.41(a)(2)). NMFS notes that when the Gulf greater amberjack recreational sector is closed, the species remains a popular catch and release fish.

In 2012, the final rule implementing Amendment 35 established a Gulf greater amberjack recreational fixed closed season of June 1 to July 31 to restrict harvest during times of peak recreational fishing. In 2017, NMFS implemented a framework action under the FMP to set the Gulf greater amberjack recreational fixed closed season to January 1 through June 31 to protect greater amberjack spawning and allow the Council additional time to consider further modify the fixed closed season (82 FR 61485, December 28, 2017). In 2018, NMFS implemented a framework action under the FMP that revised the recreational fishing year from the calendar year (January 1 through December 31) to be from August 1 through July 31, and set the current Gulf greater amberjack recreational fixed closed season to be from November 1 through April 30 and from June 1 through July 31 (83 FR 13426, March 29, 2018). This means that until the recreational ACT is reached or projected to be reached, recreational harvest would be allowed during the months of August through October, and during the month of May. The current fixed closed season prohibits harvest during the peak greater amberjack spawning period in the majority of the Gulf (i.e., March and April) and allows for both a fall and spring recreational season if no in-season closure is required.

For the present action, the Council decided to recommend modifying the recreational fixed closed season in response to the substantial recreational catch limit reductions implemented through the final rule for Amendment 54 in order to lengthen the recreational fishing season and to protect the greater amberjack stock during all documented spawning periods in the Gulf (i.e., March through June). This change to the recreational fixed closed season, from the current closures of January 1 through April 30, from June 1 through July 31, and from November 1 through December 31, each year, to new closures from January 1 through August 31, and from November 1 through December 31, each year, would eliminate the spring recreational season. The revised recreational closure would allow for protection of the stock during the entire spawning period in the Gulf.

As described in the framework action, this fixed closed season modification is projected to allow the recreational fishing season to be open for all of September and most of October (i.e., projected to extend to October 26th) each year. However, if recreational effort were to shift as a result of the fixed closed season change, then it is possible a recreational closure may occur earlier. For the revised recreational fixed closed season, the Council determined that a more cautious approach for management was warranted in order to meet the rebuilding timeline.

Management Measures Contained in This Final Rule

This final rule revises the commercial trip limit and recreational fixed closed season for Gulf greater amberjack.

Commercial Trip Limit

The existing regulations set the commercial trip limit for Gulf greater amberjack at 1,000 lb (454 kg), gutted weight (1,040 lb (472 kg), round weight), with a reduction to 250 lb (113 kg), gutted weight (260 lb (118 kg), round weight) when 75 percent of the commercial quota has been reached. This final rule changes the commercial trip limit to seven fish. Once the commercial quota has been reached, the commercial sector will close and commercial harvest is prohibited (50 CFR 622.41(a)(1)(i)).

As described in the framework action, the trip limit reduction to seven fish (i.e., approximately 210 lb (95 kg), gutted weight (218 lb (99 kg), round weight) is expected to extend the length of the commercial fishing season into September, which would not occur under the status quo commercial trip limit. While the commercial ACT has been met for the 2024 season and an in-season closure began on June 30 (89 FR 50529, June 14, 2024), if the commercial ACL is not exceeded in 2024, an in-season closure under a seven fish trip limit is expected to occur in September of 2025.

In recommending this trip limit, the Council recognized that the Gulf greater amberjack stock is overfished and has not rebuilt as expected under the current and previous rebuilding plans. NMFS determined, in accordance with the Council's findings, that a more cautious approach for the commercial sector was warranted and chose to substantially reduce the commercial trip limit.

Recreational Fixed Closed Season

The current Gulf greater amberjack recreational fixed closed season is from January 1 through April 30, June 1 through July 31, and November 1 through December 31, each year. This final rule revises the closed season to January 1 through August 31, and November 1 through December 31, each year. This results in the recreational season being scheduled to be open from September 1 through October 31, each year. As described in the Classification of this final rule, NMFS has found good cause under 5 U.S.C. 553(d)(3) to waive the 30-day delay in the effective date for changes to the Gulf greater amberjack recreational fixed closed season at 50 CFR 622.34(c). Based on the timing of the rulemaking for this final rule, this has been done to avoid the recreational season opening on August 1, 2024, and to instead open on September 1, 2024, consistent with the revisions in this final rule and the framework action. This will allow NMFS to evaluate landings from the May 2023 portion of the recreational season of the previous fishing year and determine if an adjustment would be needed to the recreational ACL and ACT in the next fishing year. NMFS notes that during the closure, the recreational bag and possession limit for greater amberjack in or from the Gulf exclusive economic zone (EEZ) is zero (50 CFR 622.34(c)).

Regulatory Language Contained in This Final Rule But Not Described in the Framework Action

In addition to the Gulf greater amberjack management measures in the framework action, this final rule clarifies language related to the Gulf red snapper Federal charter vessel/headboat (for-hire) component quota (50 CFR 622.39(a)(2)(i)(B)) and the Gulf red snapper Federal for-hire component ACT (50 CFR 622.41(q)(2)(iii)(B)). When Amendment 40 to the FMP was implemented in 2015 and allocated the recreational ACL (quota) between the Federal for-hire and private angling components, the provisions referenced above specified that the Federal for-hire quota and ACT apply “to vessels that have been issued a valid Federal charter vessel/headboat permit for Gulf reef fish any time during the fishing year.” (80 FR 22422, April 22, 2015). This language was necessary to maintain the selected allocation between the components by allowing only those vessels issued the Federal for-hire permit during the fishing year to harvest red snapper under the for-hire component quota.

Subsequently, NMFS determined that it would be helpful to clarify these provisions to specify the restrictions on harvest and possession of red snapper when the for-hire season is closed by adding the following language: “A person aboard a vessel that has been issued a charter vessel/headboat permit for Gulf reef fish any time during the fishing year may not harvest or possess red snapper in or from the Gulf when the Federal charter vessel/headboat component is closed” (85 FR 6819, February 6, 2020; 88 FR 37475 June 8, 2023). In this final rule, and consistent with Amendment 40, NMFS adds additional clarifying language to specify the restrictions on harvest and possession of red snapper when the for-hire season is open. This language provides that when the Federal for-hire component is open, a person on board a vessel that has been issued a for-hire permit for Gulf reef fish at any time during the fishing year may harvest or possess red snapper in or from the Gulf only when the vessel is operating as a charter vessel or headboat.

Comments and Responses

NMFS received four comment submissions in response to the proposed rule for the framework action. Of the comments contained in these submissions, one expressed general support for the rule. One comment was generally against the proposed rule, but expressed support for the closure of the greater amberjack recreational season during red snapper season. One comment suggested that fishing seasons for greater amberjack and other Gulf reef fish species (e.g., red snapper and groupers) should overlap in order to reduce discards and decrease overall mortality of each of these reef fish species. The commenter also suggested reducing the greater amberjack recreational bag limit, which was beyond the scope of the proposed rule. The final comment did not support concurrent open recreational seasons for Gulf reef fish species, since the timing of seasons could negatively impact recreational fishermen, especially the for-hire component. Specific comments related to the proposed rule and the framework action are summarized below and followed by NMFS' respective responses. There have been no changes to the proposed rule as a result of public comment.

Comment 1: Recreational fishing seasons for greater amberjack and other Gulf reef fish species (e.g., red snapper, groupers) should overlap in order to reduce discards and decrease overall mortality of each of these reef fish species. Also, consideration should be given to establishing a combined recreational fishing season for all reef fish of 60 days or less.

Response: In the framework action, the Council recommended that the greater amberjack recreational fishing season open on September 1, instead of the current season where the sector is open in May and then again opens on August 1. Changing the recreational greater amberjack season start date to September 1 and removing the months of May and August from the open season is expected to increase the number of greater amberjack fishing days available to the recreational sector before the recreational ACT would be projected to be met. Also, modifying the fixed closed season as proposed would protect greater amberjack during spawning months and would allow fishing during a time when recreational effort is expected to be less than the previous open months of May and August.

A September 1 recreational season opening date provides overlap with the recreational fishing season opening date for Gulf gag, which is also September 1, as suggested by this comment. This overlap could result in fewer greater amberjack discards when targeting gag. While a concurrent fishing season for all reef fish could reduce discards, a goal of the Council is to maximize recreational fishing opportunities throughout the year while constraining harvest to allowable catch levels. This often requires different management measures such as fishing seasons for different reef fish species due to different stock statuses, spawning periods, and seasonal distributions. A single concurrent recreational fishing season for all reef fish species is not practical to help achieve OY within the fishery and maintain recreational fishing opportunities throughout the Gulf.

Classification

Pursuant to section 304(b)(3) of the Magnuson-Stevens Act, the NMFS Assistant Administrator has determined that this final rule is consistent with the framework action, the FMP, other provisions of the Magnuson-Stevens Act, and other applicable law.

This final rule has been determined to be not significant for purposes of Executive Order 12866. The Magnuson-Stevens Act provides the legal basis for this final rule. No duplicative, overlapping, or conflicting Federal rules have been identified.

A final regulatory flexibility analysis (FRFA) was prepared for this rule. The FRFA incorporates the IRFA, a summary of any significant issues raised by public comment in response to the IRFA, any applicable NMFS responses to those comments, and a summary of the analyses completed to support the action. NMFS did not receive any public comments with respect to the IRFA. A copy of the full analysis is available from NMFS (see ADDRESSES). A summary of the FRFA follows.

The objectives of this final rule are to maintain commercial and recreational access to the greater amberjack component of the Gulf reef fish fishery, given the substantial ACL decreases under the Gulf greater amberjack rebuilding plan in Amendment 54, and ensure anglers and for-hire vessel operators understand that a person on a vessel that has been issued a Gulf for-hire permit at any time during the fishing year can only harvest red snapper if the vessel is operating as a for-hire vessel. All monetary estimates in the following analysis are in 2021 dollars.

This final rule reduces the commercial trip limit for greater amberjack from 1,000 lb (454 kg), gutted weight (1,040 lb (472 kg), round weight), with a decrease in the trip limit to 250 lb (113 kg), gutted weight, 260 lb (118 kg), round weight, when 75 percent of the commercial quota has been reached, to seven fish. This final rule also establishes the new commercial trip limit based on numbers of fish rather than on weight. As described in the framework action, a trip limit of seven fish is approximately equal to 210 lb (95 kg), gutted weight (218 lb (99 kg), round weight).

This final rule also modifies the recreational fixed closed season for Gulf greater amberjack from the original dates of November 1 through April 30 and June 1 through July 31 to the new dates of August 1 through August 31 and November 1 through July 31.

This final rule also clarifies language in the regulations related to the Gulf red snapper Federal charter vessel/headboat component quota and the Gulf red snapper Federal charter vessel/headboat component ACT. Specifically, the regulations will be modified to clarify that a person on a vessel issued a Gulf for-hire permit at any time during the fishing year can only harvest red snapper if the vessel is operating as a for-hire vessel. Given these actions, this final rule is expected to regulate commercial fishing businesses and charter vessel/headboat (for-hire) fishing businesses that harvest Gulf greater amberjack. The action to clarify existing regulations related to the Gulf red snapper Federal charter vessel/headboat component quota and the Gulf red snapper Federal charter vessel/headboat component ACT is administrative in nature, and thus would not regulate or directly affect any entities.

A valid commercial Gulf reef fish vessel permit is required in order for commercial fishing vessels to legally harvest greater amberjack in the Gulf. At the end of 2020, 837 vessels possessed valid commercial Gulf reef fish vessel permits. However, not all vessels with a commercial Gulf reef fish permit actually harvest greater amberjack in the Gulf. From 2017 through 2021, the average number of vessels that commercially harvested Gulf greater amberjack was 199. Ownership data regarding vessels that harvest Gulf greater amberjack are incomplete, which prohibits accurately determining affiliations between these particular vessels. Since determining ownership affiliations is not currently feasible, for the purposes of this analysis, NMFS assumes each of these vessels is independently owned by a single business. NMFS expects this assumption to result in an overestimate of the actual number of commercial fishing businesses regulated by this final rule. Thus, it is assumed this final rule would regulate 199 commercial fishing businesses.

Although the changes to the recreational fixed closed season will apply to recreational private anglers, the Regulatory Flexibility Analysis (RFA) does not consider recreational private anglers to be entities. Small entities include small businesses, small organizations, and small governmental jurisdictions (see 5 U.S.C. 601(6) and 601(3)-(5)). Recreational private anglers are not businesses, organizations, or governmental jurisdictions and so they are outside the scope of this analysis (see 5 U.S.C. 603).

A valid Federal charter vessel/headboat (for-hire) permit for Gulf reef fish is required to legally harvest greater amberjack in the Gulf from a for-hire vessel. NMFS does not possess complete ownership data for vessels that hold charter vessel/headboat Gulf reef fish vessel permits and thus potentially harvest greater amberjack. Therefore, accurately determining affiliations between these vessels and the businesses that own them is not currently feasible. As a result, for purposes of this analysis, NMFS assumes each for-hire vessel is independently owned by a single business, which is expected to result in an overestimate of the actual number of for-hire fishing businesses regulated by this final rule.

NMFS also does not have data indicating how many for-hire vessels actually harvest Gulf greater amberjack in a given year. In 2020, there were 1,289 vessels with valid charter-headboat Gulf reef fish vessel permits. Of these 1,289 vessels, 803 were homeported in Florida. Of these 803 vessels, 62 are primarily used for commercial fishing rather than for-hire fishing purposes and thus are not considered for-hire fishing businesses (i.e., 1,227 vessels are for-hire fishing businesses). In addition, 46 of the permitted vessels are considered headboats. However, headboats take a relatively large, diverse set of anglers to harvest a diverse range of species on a trip and therefore do not typically target a particular species. Therefore, NMFS assumes that no headboat trips would be canceled, and thus no headboats would be directly affected as a result of this final rule.

Charter vessels often target greater amberjack. Of the 803 vessels with valid charter-headboat Gulf reef fish vessel permits that are homeported in Florida, 62 are dually permitted commercial and charter vessel-headboats but are primarily commercial fishing vessels, and 46 are headboats, while the remaining 695 are charter vessels. As described in the framework action, 76 percent of charter vessels with valid charter-headboat permits in the Gulf were active in 2017 (i.e., 24 percent were not fishing). A charter vessel would only be directly affected by this final rule if it is fishing. Given this information, NMFS' best estimate of the number of charter vessels that are likely to target Gulf greater amberjack in a given year is 528. Thus, this final rule is estimated to regulate 528 for-hire fishing businesses.

For RFA purposes, NMFS has established a small business size standard for businesses, including their affiliates, whose primary industry is commercial fishing (North American Industry Classification System (NAICS) Code 114111 (50 CFR 200.2)). A business primarily involved in the commercial fishing industry is classified as a small business if it is independently owned and operated, is not dominant in its field of operation (including its affiliates), and its combined annual receipts (i.e., revenue) are not in excess of $11 million for all of its affiliated operations worldwide. From 2017 through 2021, the maximum annual gross revenue earned by a single commercial reef fish vessel during this time was about $3.19 million, while the average annual gross revenue for a vessel commercially harvesting Gulf greater amberjack was $194,894. Based on this information, all commercial fishing businesses regulated by this final rule are determined to be small entities for the purpose of this analysis.

For other industries, the Small Business Administration has established size standards for all major industry sectors in the U.S., including for-hire businesses (NAICS code 487210). A business primarily involved in for-hire fishing is classified as a small business if it is independently owned and operated, is not dominant in its field of operation (including its affiliates) and has annual receipts (i.e., revenue) not in excess of $14.0 million for all its affiliated operations worldwide. The maximum annual gross revenue for a single headboat in the Gulf was about $1.45 million in 2017. On average, annual gross revenue for headboats in the Gulf is about three times greater than the annual gross revenue for charter vessels, reflecting the fact that businesses that own charter vessels are typically smaller than businesses that own headboats. Based on this information, all for-hire fishing businesses regulated by this final rule are determined to be small businesses for the purpose of this analysis.

NMFS expects this final rule to directly affect 199 of the 837 commercial fishing businesses that possess a valid commercial Gulf reef fish permit (approximately 24 percent of those commercial fishing businesses). Further, NMFS expects this final rule to directly affect 528 of the 1,227 for-hire fishing businesses with valid Federal charter vessel/headboat permits in the Gulf reef fish fishery (approximately 43 percent of those for-hire fishing businesses). For the purpose of this analysis, all affected commercial and for-hire fishing businesses are small entities. Based on this information, NMFS expects the final rule to affect a substantial number of small entities.

For vessels that commercially harvest greater amberjack in the Gulf, currently available data indicate that economic profits are approximately 38 percent of annual average gross revenue. Given that their average annual gross revenue is $194,894, annual average economic profit per vessel is estimated to be approximately $74,060.

This final rule reduces the commercial trip limit for greater amberjack to seven fish. As described in the framework action, a trip limit of seven fish is approximately equal to 210 lb (95 kg), gutted weight; 218 lb (99 kg), round weight. This final rule is expected to lengthen the commercial fishing season for greater amberjack.

Economic effects expected to result from changes in commercial trip limits would typically include changes in ex-vessel revenues and profits of commercial fishing businesses. However, based on the relatively small size of the greater amberjack commercial ACT and harvest projections, commercial fishing businesses are projected to harvest all of the allocated commercial quota regardless of the commercial trip limit. Therefore, changes in ex-vessel revenues and profits for commercial fishing businesses would not be expected to result from the action to change the commercial trip limit from 1,000 lb (454 kg) gutted weight, to seven fish.

Based on the most recent information available, average annual profit is $27,000 per charter vessel. Net Cash Flow per Angler Trip (CFpA) is the best available estimate of profit per angler trip by charter vessels. CFpA on charter vessels is estimated to be $149 per angler trip. Expected changes in charter trips targeting greater amberjack were derived from projected closure dates of the action to modify the recreational fixed closed season, and from the average distribution of greater amberjack target trips by wave and mode between 2018 and 2021. Assuming there is no shift in effort, it is estimated that the change in the recreational fixed closed season would result in a decrease to the number of charter trips targeting greater amberjack by 195 trips, and thereby decrease the profits to charter fishing businesses by $29,108. On average, this would decrease profits by $55 per vessel. Thus, economic profits are expected to be reduced by 0.2 percent on average per charter fishing business.

Three alternatives, including the status quo, were considered for the action to modify the commercial trip limit for Gulf greater amberjack and establish a new commercial trip limit based on numbers of fish rather than weight. The first alternative, the status quo, would have retained the current commercial trip limit for Gulf greater amberjack of 1,000 lb (454 kg), gutted weight (1,040 lb (472 kg,) round weight). Additionally, when 75 percent of the ACT is projected to be reached, the commercial trip limit would have been reduced to 250 lb (113 kg), gutted weight (260 lb (118 kg) round weight). This alternative would have allowed some targeting of greater amberjack to continue. However, the Council did not recommend, and NMFS did not select, this alternative because it would not modify the trip limit from pounds of fish, which is more difficult to enforce compared to a count of fish. This alternative is also expected to result in the shortest overall season, which is contrary to the objectives of the framework action.

The second alternative would have established a commercial trip limit of eight fish. A trip limit of eight fish is approximately equal to 257 lb (117 kg), gutted weight; 267 lb (121 kg), round weight. The Council did not recommend and NMFS did not select this alternative because it is not expected to extend the commercial season as long as the action in this rule.

The third alternative would have established a commercial trip limit of five fish. A trip limit of five fish is approximately equal to 150 lb (68 kg), gutted weight; 155 lb (70 kg), round weight. Like the action in this rule, this alternative would have modified the trip limit from pounds of fish to numbers of fish. Although this trip limit would have resulted in the longest commercial season, the Council did not recommend and NMFS did not select this alternative because it was deemed to be too restrictive.

Two alternatives, including the status quo, were considered for the action to modify the recreational fixed closed season for Gulf greater amberjack. The first alternative, the status quo, would have retained the current recreational fixed closed season of November 1 through April 30 and June 1 through July 31. As described in the framework action, this alternative was not selected because it results in the shortest projected season (i.e., 21 days), which could promote race to fish (i.e., derby-like) fishing behavior, and does not protect the stock during spawning periods. As described in the framework action, the Council also expressed a desire for a longer season length rather than a split season and a fishing season start date in August. Further, this alternative gives the least flexibility to for-hire operators with respect to rescheduling trips due to inclement weather or other constraints with the short-projected season. For all of the reasons stated above, NMFS agrees with the Council's decision not to recommend the status quo alternative.

The second alternative would have modified the recreational fixed closed season to be August 1 through August 31, October 1 through April 30, and June 1 through July 31. Although this alternative would have been expected to result in a greater amount of charter trips targeting Gulf greater amberjack compared to the status quo, it still allows for harvest during the spawning season. The Council did not recommend and NMFS did not select this alternative because it does not protect the stock during spawning periods as described in the framework action, which ultimately could have negative long-term effects if the stock does not rebuild.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, NMFS prepared a fishery bulletin, which also serves as a small entity compliance guide. Copies of this final rule are available from the Southeast Regional Office, and the guide, i.e., fishery bulletin, will be sent to all known industry contacts in the Gulf reef fish fishery and be posted at: https://www.fisheries.noaa.gov/tags/small-entity-compliance-guide?title=&field_species_vocab_target_id=&field_region_vocab_target_id%5B1000001121%5D=1000001121&sort_by=created.

This final rule contains no information collection requirements under the Paperwork Reduction Act of 1995.

NMFS finds good cause under 5 U.S.C. 553(d)(3) to waive the 30-day delay in the effective date for changes to the Gulf greater amberjack recreational fixed closed season at 50 CFR 622.34(c). Among other measures, this final rule modifies the start of the summer recreational fishing season from August 1 to September 1. The recreational accountability measures require NMFS to prohibit harvest of greater amberjack when recreational landings reach or are projected to reach the recreational ACT (quota) and if recreational landings exceed the recreational ACL, then during the following fishing year, both the recreational quota and the recreational ACL must be reduced by the amount of any recreational ACL overage. NMFS will not have preliminary recreational landings estimates for the May 2024 open fishing season, which was the final month of recreational fishing during the 2023-2024 recreational fishing year, until mid-August 2024. Therefore, if the changes to the recreational fixed closed season are not made effective by August 1, the recreational fishing season will open before NMFS can determine whether there needs to be an adjustment to the recreational ACT and ACL for the 2024-2025 fishing year. If significant harvest occurs before NMFS can make that determination, an overage of the 2024-2025 recreational ACL could occur, which would have negative impacts on the stock, which is overfished, as well as on those participants in the recreational sector who will have fewer days to fish for Gulf greater amberjack during the following fishing year. Given the time required to receive finalized recreational landings information from May 2024, NMFS is not yet able to make a determination about any recreational ACL overages from the 2023-2024 fishing year. A waiver of the 30-day delay in the effective date for changes to the Gulf greater amberjack recreational fixed closed season will allow the season to open September 1 as specified in the final rule and allow NMFS to determine whether an adjustment to the 2024-2025 catch limits are necessary. In addition, private anglers and Federal for-hire operators have been planning trips in anticipation of the expected September 1 opening and as explained in the framework action, opening on September 1 as opposed to August 1 is expected to allow for a greater number of fishing days, which will benefit private anglers and Federal for-hire operators. A waiver of the 30-day delay in effectiveness for the commercial trip limit specified in 50 CFR 622.43(a) is not necessary because commercial harvest is prohibited until December 31, 2024 as a result of an in-season commercial closure (89 FR 50529, June 14, 2024).

List of Subjects in 50 CFR Part 622

Commercial, Fisheries, Fishing, Greater amberjack, Gulf, Recreational, Red snapper, Reef fish.

Dated: July 15, 2024.
Samuel D. Rauch III,
Deputy Assistant Administrator for Regulatory Programs, National Marine Fisheries Service.

For the reasons set out in the preamble, NMFS amends 50 CFR part 622 as follows:

PART 622—FISHERIES OF THE CARIBBEAN, GULF OF MEXICO, AND SOUTH ATLANTIC

1. The authority citation for part 622 continues to read as follows:

Authority: 16 U.S.C. 1801 et seq.

2. Effective August 1, 2024, in § 622.34, revise paragraph (c) to read as follows:

§ 622.34 Seasonal and area closures designed to protect Gulf reef fish.

* * * * *

(c) Seasonal closure of the recreational sector for greater amberjack. The recreational sector for greater amberjack in or from the Gulf EEZ is closed from January 1 through August 31 and from November 1 through December 31 each year. During the closure, the bag and possession limit for greater amberjack in or from the Gulf EEZ is zero.

* * * * *

3. Effective August 21, 2024, in § 622.39, revise paragraph (a)(2)(i)(B) to read as follows:

§ 622.39 Quotas.

* * * * *

(a) * * *

(2) * * *

(i) * * *

(B) Federal charter vessel/headboat component quota. The Federal charter vessel/headboat component quota applies to vessels that have been issued a valid Federal charter vessel/headboat permit for Gulf reef fish any time during the fishing year. A person aboard a vessel that has been issued a charter vessel/headboat permit for Gulf reef fish any time during the fishing year may not harvest or possess red snapper in or from the Gulf when the Federal charter vessel/headboat component is closed. When the Federal charter vessel/headboat component is open, a person on board a vessel that has been issued a charter vessel/headboat permit for Gulf reef fish at any time during the fishing year may harvest or possess red snapper in or from the Gulf only when the vessel is operating as a charter vessel or headboat. The Federal charter vessel/headboat component quota is 3,380,574 lb (1,533,403 kg), round weight.

* * * * *

4. Effective August 21, 2024, in § 622.41, revise paragraph (q)(2)(iii)(B) to read as follows:

§ 622.41 Annual catch limits (ACLs), annual catch targets (ACTs), and accountability measures (AMs).

* * * * *

(q) * * *

(2) * * *

(iii) * * *

(B) Federal charter vessel/headboat component ACT. The Federal charter vessel/headboat component ACT applies to vessels that have been issued a valid Federal charter vessel/headboat permit for Gulf reef fish any time during the fishing year. A person aboard a vessel that has been issued a charter vessel/headboat permit for Gulf reef fish any time during the fishing year may not harvest or possess red snapper in or from the Gulf when the Federal charter vessel/headboat component is closed. When the Federal charter vessel/headboat component is open, a person on board a vessel that has been issued a charter vessel/headboat permit for Gulf reef fish at any time during the fishing year may harvest or possess red snapper in or from the Gulf only when the vessel is operating as a charter vessel or headboat. The component ACT is 3,076,322 lb (1,395,396 kg), round weight.

* * * * *

5. Effective August 21, 2024, in § 622.43, revise paragraph (a) to read as follows:

§ 622.43 Commercial trip limits.

* * * * *

(a) Greater amberjack. Until the commercial quota specified in § 622.39(a)(1)(v) is reached—7 fish. See § 622.39(b) for the limitations regarding greater amberjack after the quota is reached.

* * * * *

[FR Doc. 2024-15873 Filed 7-18-24; 4:15 pm]

BILLING CODE 3510-22-P